DEPARTMENT OF DEFENSE

Department of the Army

Department of Defense (DoD) Task Force on Mental Health; Meeting

AGENCY: Department of the Army, DoD.

ACTION: Notice of meeting.

SUMMARY: In accordance with section 10(a)(2) of Public Law 92-463, The Federal Advisory Committee Act, announcement is made of the following meeting:

Name of Committee: DoD Task Force on Mental Health, a Subcommittee of the Armed Forces Epidemiological Board.

Dates: October 19, 2006 (Open Session), October 20, 2006 (Afternoon—Open Session).

Times: 0800-1700 (October 19, 2006); 1200-1700 (October 20, 2006).

Location: Marriott San Diego Mission Valley, 8757 Rio San Diego Drive, San Diego, CA.

Agenda: The purpose of the meeting is to obtain, review, and evaluate information related to the Mental Health Task Force's congressionally-directed task of assessing the efficacy of mental health services provided to members of the Armed Forces by the Department of Defense. The Task Force members will receive briefings on topics related to mental health concerns among military service members and mental health care delivery. The Task Force will hold a “Town Hall Meeting” session to hear concerns from the Navy San Diego community and conduct an executive working session.

FOR FURTHER INFORMATION CONTACT: Colonel Roger Gibson, Executive Secretary, Armed Forces Epidemiological Board, Skyline One, 5109 Leesburg Pike, Room 682, Falls Church, VA 22041, (703) 681-8012/3.

SUPPLEMENTARY INFORMATION: Sessions on October 19, 2006 and October 20, 2006 will be open to the public in accordance with Section 552b(b) of Title 5, U.S.C., specifically subparagraph (1) thereof and Title 5, U.S.C., appendix 1, subsection 10(d). Open sessions of the meeting will be limited by space accommodations. Any interested person may attend, appear before or file statements with the Board at the time and in the manner permitted by the Board.

Brenda S. Bowen,
Army Federal Register Liaison Officer.

[FR Doc. 06-8561 Filed 10-5-06; 8:45 am]

BILLING CODE 3710-08-M